DEPARTMENT OF ENERGY

Federal Energy Regulatory Commission

Combined Notice of Filings #2

Take notice that the Commission received the following electric rate filings:

Docket Numbers: ER14-108-000.

Applicants: Entergy Arkansas, Inc., Entergy Gulf States Louisiana, L.L.C., Entergy Mississippi, Inc., Entergy New Orleans, Inc., Entergy Texas, Inc., Entergy Louisiana, LLC.

Description: Midcontinent Independent System Operator, Inc. submits tariff filing per 35.19a(b): Refund Report [Corrected] to be effective N/A.

Filed Date: 8/19/15.

Accession Number: 20150819-5064.

Comments Due: 5 p.m. ET 9/9/15.

Docket Numbers: ER15-2484-000.

Applicants: PJM Interconnection, L.L.C.

Description: Section 205(d) Rate Filing: Service Agreement No. 4218; Queue No. AA1-065 (ICSA) to be effective 7/20/2015.

Filed Date: 8/19/15.

Accession Number: 20150819-5092.

Comments Due: 5 p.m. ET 9/9/15.

Docket Numbers: ER15-2485-000.

Applicants: Florida Power & Light Company.

Description: Section 205(d) Rate Filing: FPL on Behalf of Cedar Bay Generating Company, Limited Partnership PPA (Tolling) to be effective 12/31/9998.

Filed Date: 8/19/15.

Accession Number: 20150819-5105.

Comments Due: 5 p.m. ET 9/9/15.

Docket Numbers: ER15-2486-000.

Applicants: Midcontinent Independent System Operator, Inc.

Description: Section 205(d) Rate Filing: 2015-08-19_SA 743 ATC-WPSC 2nd Rev. G-TIA to be effective 8/20/2015.

Filed Date: 8/19/15.

Accession Number: 20150819-5113.

Comments Due: 5 p.m. ET 9/9/15.

Docket Numbers: ER15-2487-000.

Applicants: Alabama Power Company.

Description: Section 205(d) Rate Filing: Duke Energy Renewables Solar SGIA Filing to be effective 8/5/2015.

Filed Date: 8/19/15.

Accession Number: 20150819-5115.

Comments Due: 5 p.m. ET 9/9/15.

Docket Numbers: ER15-2488-000.

Applicants: MDU Resources Group, Inc.

Description: Section 205(d) Rate Filing: Certificate of Concurrence—TCEA to be effective 10/17/2015.

Filed Date: 8/19/15.

Accession Number: 20150819-5168.

Comments Due: 5 p.m. ET 9/9/15.

Docket Numbers: ER15-2489-000.

Applicants: MDU Resources Group, Inc.

Description: Section 205(d) Rate Filing: Certificate of Concurrence—CMA to be effective 8/12/2015.

Filed Date: 8/19/15.

Accession Number: 20150819-5169.

Comments Due: 5 p.m. ET 9/9/15.

Docket Numbers: ER15-2490-000.

Applicants: Puget Sound Energy, Inc.

Description: Initial rate filing: Port of Seattle NITSA Amendment No 2 SA No 484 to be effective 2/1/2015.

Filed Date: 8/19/15.

Accession Number: 20150819-5165.

Comments Due: 5 p.m. ET 9/9/15.

Docket Numbers: ER15-2491-000.

Applicants: MDU Resources Group, Inc.

Description: Section 205(d) Rate Filing: Certificate of Concurrence—EF TCEA to be effective 10/17/2015.

Filed Date: 8/19/15.

Accession Number: 20150819-5167.

Comments Due: 5 p.m. ET 9/9/15.

Docket Numbers: ER15-2492-000.

Applicants: Otter Tail Power Company.

Description: Section 205(d) Rate Filing: Certificate of Concurrence to be effective 10/17/2015.

Filed Date: 8/19/15.

Accession Number: 20150819-5172.

Comments Due: 5 p.m. ET 9/9/15.

Docket Numbers: ER15-2493-000.

Applicants: PJM Interconnection, L.L.C.

Description: Section 205(d) Rate Filing: Original Service Agreement No. 4244; Queue Position #Z1-081 to be effective 7/20/2015.

Filed Date: 8/19/15.

Accession Number: 20150819-5174.

Comments Due: 5 p.m. ET 9/9/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 19, 2015.
Nathaniel J. Davis, Sr.,
Deputy Secretary.

[FR Doc. 2015-21110 Filed 8-25-15; 8:45 am]

BILLING CODE 6717-01-P